DEPARTMENT OF THE INTERIOR

Geological Survey

[GR.19.ZD01.BNEEC.00; OMB Control Number 1028/New]

Agency Information Collection Activities; Tribal Perspectives for and Values of Resources Downstream of Glen Canyon Dam

AGENCY: U.S. Geological Survey, Interior.

ACTION: Notice of information collection; request for comment.

SUMMARY: In accordance with the Paperwork Reduction Act of 1995, we, the U.S. Geological Survey (USGS) are proposing a new information collection.

DATES: Interested persons are invited to submit comments on or before June 10, 2019.

ADDRESSES: Send your comments on the information collection request (ICR) by mail to the U.S. Geological Survey, Information Collections Clearance Officer, 12201 Sunrise Valley Drive, MS 159, Reston, VA 20192; or by email to gs-info_collections@usgs.gov. Please reference OMB Control Number 1028-NEW in the subject line of your comments.

FOR FURTHER INFORMATION CONTACT: To request additional information about this ICR, contact U.S. Geological Survey by email at lbair@usgs.gov, or by telephone at 928-556-7362.

SUPPLEMENTARY INFORMATION: In accordance with the Paperwork Reduction Act of 1995, we provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Abstract: The National Park Service (NPS) Act of 1916, 38 Stat 535, 16 U.S.C. 1, et seq., requires that the NPS preserve national parks for the use and enjoyment of present and future generations. This collection will provide the Glen Canyon Dam Adaptive Management Program (GCDAMP) with information about tribal stakeholder's perspectives on the condition and protection of natural and cultural resources in Glen and Grand Canyons. Identifying tribal preferences and values for natural and cultural resources in Glen and Grand Canyons is a high priority for the GCDAMP. There are substantial ongoing and prior studies exploring the preferences and values recreationists and the general public hold for resources (for example, whitewater rafting and hydropower) in Glen and Grand Canyons. However, there is almost a complete absence of relevant prior tribal socioeconomic studies exploring this information. This collection will provide information needed to inform decisions on management actions and policies related to operation of Glen Canyon Dam. This notice will cover the development and pretesting of the final survey instrument.

Title of Collection: Tribal Perspectives for and Values of Resources Downstream of Glen Canyon Dam.

OMB Control Number: 1028-NEW.

Form Number: None.

Type of Review: New.

Respondents/Affected Public: Individuals/households.

Total Estimated Number of Annual Respondents: 350.

Total Estimated Number of Annual Responses: 300.

Estimated Completion Time per Response: 120 minutes.

Total Estimated Number of Annual Burden Hours: 700.

Respondent's Obligation: Voluntary.

Frequency of Collection: One time.

Total Estimated Annual Non-hour Burden Cost: We have not identified any “non-hour cost” burdens associated with this collection of information.

An agency may not conduct or sponsor and a person is not required to respond to a collection of information unless it displays a currently valid OMB control number.

The authorities for this action are the Paperwork Reduction Act of 1995 (44 U.S.C. 3501, et seq.).

David Lytle,
Director, Southwest Biological Science Center.

[FR Doc. 2019-07119 Filed 4-9-19; 8:45 am]

BILLING CODE 4338-11-P